DEPARTMENT OF HEALTH AND HUMAN SERVICES

Centers for Disease Control and Prevention

[30Day-19-0856]

Agency Forms Undergoing Paperwork Reduction Act Review

In accordance with the Paperwork Reduction Act of 1995, the Centers for Disease Control and Prevention (CDC) has submitted the information collection request titled “National Quitline Data Warehouse” to the Office of Management and Budget (OMB) for review and approval. CDC previously published a “Proposed Data Collection Submitted for Public Comment and Recommendations” notice on November 6, 2018 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

National Quitline Data Warehouse (OMB Control No. 0920-0856, Exp. Date 03/31/2019)—Extension—National Center for Chronic Disease Prevention and Health Promotion (NCCDPHP), Centers for Disease Control and Prevention (CDC).

Background and Brief Description

Since 2010, the National Quitline Data Warehouse (NQDW) has collected a core set of information from the 50 U.S. states, the District of Columbia, Guam, and Puerto Rico regarding what services telephone quitlines offer to tobacco users as well as the number and type of tobacco users who receive services from telephone quitlines. The data collection was modified in 2015 to collect data from the The Asian Smokers' Quitline (ASQ) in addition to the other 53 states/territories that provide data, and included five new questions to the NQDW Intake Questionnaire to help CDC and states tailor quitline services to the needs of its callers.

The NQDW provides data on the general smoking population who contact their state quitlines, but also allows for collections of information about key subgroups of tobacco users who contact state quitlines to better support cessation services. Data is collected on tobacco users who received service from state telephone quitlines from all funded U.S. states, territories and the Asian Smokers' Quitline (ASQ) through the NQDW Intake Questionnaire. The NQDW Seven-Month Follow-up Questionnaire will be administered to tobacco users who received services from the ASQ only, and is no longer collected from other respondents. Seven-month quit rates have been previously estimated for all Quitline callers except those that call the ASQ. Based on previous literature and a review of the follow-up evaluation data previously collected by the NQDW, seven-month quit rates are not expected to change significantly over time. Data on the quitline call volume, number of tobacco users served, and the services offered by state quitlines will be provided by state health department personnel who manage the quitline or their designee, such as contracted quitline service providers, using the NQDW Quitline Services Survey.

Data collected from the NQDW is analyzed with simple descriptive data tabulations and trends are currently reported online through the CDC State Tobacco Activities Tracking and Evaluation (STATE) System website. More complex statistical analyses, including multivariate regression techniques will be utilized to assess quitline outcomes, such as quitline reach, service utilization, how callers reported hearing about the quitline, and the effectiveness of quitline promotions and the CDC Tips From Former Smokers national tobacco education media campaigns on state quitline call volume and tobacco users receiving services from state quitlines.

CDC uses the information collected by the NQDW for ongoing monitoring, reporting, and evaluation related to state quitlines. Select data from the NQDW are reported online through the CDC's STATE System website (http://www.cdc.gov/statesystem). The estimated annual burden hours are 82,477.

Estimated Annualized Burden Hours
Type of respondent | Form name | Number of respondents | Number of responses per respondent | Average burden per respondent (in hours)
Quitline callers who contact the quitline for help for themselves | NQDW Intake Questionnaire (English-complete) | 488,846 | 1 | 10/60
| ASQ Intake Questionnaire (Chinese, Korean, or Vietnamese-complete) | 1,935 | 1 | 10/60
| ASQ Seven-Month Follow-up Questionnaire | 1,587 | 1 | 7/60
Caller who contacts the Quitline on behalf of someone else | NQDW Intake Questionnaire (English-subset) | 12,217 | 1 | 1/60
| ASQ Intake Questionnaire (Chinese, Korean, or Vietnamese-subset) | 86 | 1 | 1/60
Tobacco Control Manager or their Designee/Quitline Service Provider | Submission of NQDW Intake Questionnaire Electronic Data File to CDC | 54 | 4 | 1
| Submission of NQDW (ASQ) Seven-Month Follow-up Electronic Data File to CDC | 1 | 1 | 1
| NQDW Quitline Services Survey | 54 | 4 | 20/60

Jeffrey M. Zirger,
Lead, Information Collection Review Office, Office of Scientific Integrity, Office of Science, Centers for Disease Control and Prevention.

[FR Doc. 2019-05555 Filed 3-22-19; 8:45 am]

BILLING CODE 4163-18-P